DEPARTMENT OF COMMERCE

International Trade Administration

Initiation of Antidumping and Countervailing Duty Administrative Reviews

AGENCY: Enforcement and Compliance, International Trade Administration, Department of Commerce.

SUMMARY: The U.S. Department of Commerce (Commerce) has received requests to conduct administrative reviews of various antidumping duty (AD) and countervailing duty (CVD) orders with September anniversary dates. In accordance with Commerce's regulations, we are initiating those administrative reviews.

DATES: Applicable November 15, 2023.

FOR FURTHER INFORMATION CONTACT: Brenda E. Brown, AD/CVD Operations, Customs Liaison Unit, Enforcement and Compliance, International Trade Administration, U.S. Department of Commerce, 1401 Constitution Avenue NW, Washington, DC 20230, telephone: (202) 482-4735.

SUPPLEMENTARY INFORMATION:

Background

Commerce has received timely requests, in accordance with 19 CFR 351.213(b), for administrative reviews of various AD and CVD orders with September anniversary dates.

All deadlines for the submission of various types of information, certifications, or comments or actions by Commerce discussed below refer to the number of calendar days from the applicable starting time.

Notice of No Sales

With respect to AD administrative reviews, if a producer or exporter named in this notice of initiation had no exports, sales, or entries during the period of review (POR), it must notify Commerce within 30 days of publication of this notice in the Federal Register. All submissions must be filed electronically at https://access.trade.gov, in accordance with 19 CFR 351.303.¹ Such submissions are subject to verification, in accordance with section 782(i) of the Tariff Act of 1930, as amended (the Act). Further, in accordance with 19 CFR 351.303(f)(1)(i), a copy must be served on every party on Commerce's service list.

¹ See Antidumping and Countervailing Duty Proceedings: Electronic Filing Procedures; Administrative Protective Order Procedures, 76 FR 39263 (July 6, 2011).

Respondent Selection

In the event Commerce limits the number of respondents for individual examination for administrative reviews initiated pursuant to requests made for the orders identified below, Commerce intends to select respondents based on U.S. Customs and Border Protection (CBP) data for U.S. imports during the POR. We intend to place the CBP data on the record within five days of publication of the initiation notice and to make our decision regarding respondent selection within 35 days of publication of the initiation Federal Register notice. Comments regarding the CBP data and respondent selection should be submitted within seven days after the placement of the CBP data on the record of this review. Parties wishing to submit rebuttal comments should submit those comments within five days after the deadline for the initial comments.

In the event Commerce decides it is necessary to limit individual examination of respondents and conduct respondent selection under section 777A(c)(2) of the Act, the following guidelines regarding collapsing of companies for purposes of respondent selection will apply. In general, Commerce has found that determinations concerning whether particular companies should be “collapsed” (e.g., treated as a single entity for purposes of calculating AD rates) require a substantial amount of detailed information and analysis, which often require follow-up questions and analysis. Accordingly, Commerce will not conduct collapsing analyses at the respondent selection phase of the review and will not collapse companies at the respondent selection phase unless there has been a determination to collapse certain companies in a previous segment of the AD proceeding (e.g., investigation, administrative review, new shipper review, or changed circumstances review). For any company subject to the review, if Commerce determined, or continued to treat, that company as collapsed with others, Commerce will assume that such companies continue to operate in the same manner and will collapse them for respondent selection purposes. Otherwise, Commerce will not collapse companies for purposes of respondent selection.

Parties are requested to (a) identify which companies subject to review previously were collapsed, and (b) provide a citation to the proceeding in which they were collapsed. Further, if companies are requested to complete the quantity and value (Q&V) questionnaire for purposes of respondent selection, in general, each company must report volume and value data separately for itself. Parties should not include data for any other party, even if they believe they should be treated as a single entity with that other party. If a company was collapsed with another company or companies in the most recently completed segment of the proceeding where Commerce considered collapsing that entity, complete Q&V data for that collapsed entity must be submitted.

Deadline for Withdrawal of Request for Administrative Review

Pursuant to 19 CFR 351.213(d)(1), a party that has requested a review may withdraw that request within 90 days of the date of publication of the notice of initiation of the requested review. The regulation provides that Commerce may extend this time if it is reasonable to do so. Determinations by Commerce to extend the 90-day deadline will be made on a case-by-case basis.

Deadline for Particular Market Situation Allegation

Section 504 of the Trade Preferences Extension Act of 2015 amended the Act by adding the concept of a particular market situation (PMS) for purposes of constructed value under section 773(e) of the Act.² Section 773(e) of the Act states that “if a particular market situation exists such that the cost of materials and fabrication or other processing of any kind does not accurately reflect the cost of production in the ordinary course of trade, the administering authority may use another calculation methodology under this subtitle or any other calculation methodology.” When an interested party submits a PMS allegation pursuant to section 773(e) of the Act, Commerce will respond to such a submission consistent with 19 CFR 351.301(c)(2)(v). If Commerce finds that a PMS exists under section 773(e) of the Act, then it will modify its dumping calculations appropriately.

² See Trade Preferences Extension Act of 2015, Public Law 114-27, 129 Stat. 362 (2015).

Neither section 773(e) of the Act nor 19 CFR 351.301(c)(2)(v) set a deadline for the submission of PMS allegations and supporting factual information. However, in order to administer section 773(e) of the Act, Commerce must receive PMS allegations and supporting factual information with enough time to consider the submission. Thus, should an interested party wish to submit a PMS allegation and supporting new factual information pursuant to section 773(e) of the Act, it must do so no later than 20 days after submission of initial responses to section D of the questionnaire.

Separate Rates

In proceedings involving non-market economy (NME) countries, Commerce begins with a rebuttable presumption that all companies within the country are subject to government control and, thus, should be assigned a single AD deposit rate. It is Commerce's policy to assign all exporters of merchandise subject to an administrative review in an NME country this single rate unless an exporter can demonstrate that it is sufficiently independent so as to be entitled to a separate rate.

To establish whether a firm is sufficiently independent from government control of its export activities to be entitled to a separate rate, Commerce analyzes each entity exporting the subject merchandise. In accordance with the separate rates criteria, Commerce assigns separate rates to companies in NME cases only if respondents can demonstrate the absence of both de jure and de facto government control over export activities.

All firms listed below that wish to qualify for separate rate status in the administrative reviews involving NME countries must complete, as appropriate, either a Separate Rate Application or Certification, as described below. For these administrative reviews, in order to demonstrate separate rate eligibility, Commerce requires entities for whom a review was requested, that were assigned a separate rate in the most recent segment of this proceeding in which they participated, to certify that they continue to meet the criteria for obtaining a separate rate. The Separate Rate Certification form will be available on Commerce's website at https://access.trade.gov/Resources/nme/nme-sep-rate.html on the date of publication of this Federal Register notice. In responding to the certification, please follow the “Instructions for Filing the Certification” in the Separate Rate Certification. Separate Rate Certifications are due to Commerce no later than 30 calendar days after publication of this Federal Register notice. The deadline and requirement for submitting a Separate Rate Certification applies equally to NME-owned firms, wholly foreign-owned firms, and foreign sellers who purchase and export subject merchandise to the United States.

Entities that currently do not have a separate rate from a completed segment of the proceeding ³ should timely file a Separate Rate Application to demonstrate eligibility for a separate rate in this proceeding. In addition, companies that received a separate rate in a completed segment of the proceeding that have subsequently made changes, including, but not limited to, changes to corporate structure, acquisitions of new companies or facilities, or changes to their official company name,⁴ should timely file a Separate Rate Application to demonstrate eligibility for a separate rate in this proceeding. The Separate Rate Application will be available on Commerce's website at https://access.trade.gov/Resources/nme/nme-sep-rate.html on the date of publication of this Federal Register notice. In responding to the Separate Rate Application, refer to the instructions contained in the application. Separate Rate Applications are due to Commerce no later than 30 calendar days after publication of this Federal Register notice. The deadline and requirement for submitting a Separate Rate Application applies equally to NME-owned firms, wholly foreign-owned firms, and foreign sellers that purchase and export subject merchandise to the United States.

³ Such entities include entities that have not participated in the proceeding, entities that were preliminarily granted a separate rate in any currently incomplete segment of the proceeding (e.g., an ongoing administrative review, new shipper review, etc.) and entities that lost their separate rate in the most recently completed segment of the proceeding in which they participated.

⁴ Only changes to the official company name, rather than trade names, need to be addressed via a Separate Rate Application. Information regarding new trade names may be submitted via a Separate Rate Certification.

Exporters and producers must file a timely Separate Rate Application or Certification if they want to be considered for individual examination. Furthermore, exporters and producers who submit a Separate Rate Application or Certification and subsequently are selected as mandatory respondents will no longer be eligible for separate rate status unless they respond to all parts of the questionnaire as mandatory respondents.

Initiation of Reviews

In accordance with 19 CFR 351.221(c)(1)(i), we are initiating administrative reviews of the following AD and CVD orders and findings. We intend to issue the final results of these reviews not later than September 30, 2024.

| Period to be reviewed
AD Proceedings
India: Lined Paper Products, A-533-843 | 9/1/22-8/31/23
Cellpage Ventures Private Limited
Dinakar Process Private Limited
ITC Limited-Education and Stationery Products Business
JC Stationery (P) Ltd
Lotus Global Private Limited
M/s. Bhaskar Paper Products
Magic International Pvt. Ltd.
Navneet Education Ltd.
Pioneer Stationery Private Limited
PP Bafna Ventures Private Limited
SGM Paper Products
India: Oil Country Tubular Goods, A-533-857 | 9/1/22-8/31/23
Surya Roshni Limited
Mexico: Emulsion Styrene-Butadiene Rubber, A-201-848 | 9/1/22-8/31/23
Industrias Negromex, S.A. de C.V.
Mexico: Heavy Walled Rectangular Welded Carbon Steel Pipes and Tubes, A-201-847 | 9/1/22-8/31/23
Aceros del Toro S.A. de C.V.
Aceros El Fraile S.A. de C.V.
Arco Metal S.A. de C.V.
Border Assembly S. de R.L. de C.V.
Buffalo Tube S.A. de C.V.
Fortacero S.A. de C.V.
Forza Steel S.A. de C.V.
Grupo Collado S.A. de C.V.
Industrias Monterrey S.A. de C.V.
Maquilacero S.A. de C.V.
Perfiles y Herrajes L.M. S.A. de C.V.
P.J. Trailers Company S.A. de C.V.
Placa y Fierro de Monterrey S.A. de C.V.
Productos Laminados de Monterrey S.A. de C.V.
PYTCO S.A. de C.V.
Regiomontana de Perfiles y Tubos S.A. de C.V.
Ternium S.A. de C.V.
Tuberia Nacional S.A. de C.V.
Tuberias Procarsa S.A. de C.V.
Republic of Korea: Cold-Rolled Steel Flat Products, A-580-881 | 9/1/22-8/31/23
Hyundai Steel Company
KG Dongbu Steel Co., Ltd.
POSCO; POSCO International Corporation
Republic of Korea: Heavy Walled Rectangular Welded Carbon Pipes and Tubes, A-580-880 | 9/1/22-8/31/23
Dong-A Steel Co., Ltd.
HiSteel Co., Ltd.
NEXTEEL Co., Ltd.
Republic of Korea: Oil Country Tubular Goods, A-580-870 | 9/1/22-8/31/23
AJU Besteel Co., Ltd.
Husteel Co., Ltd.
Hyundai Steel Company
ILJIN Steel Corporation
NEXTEEL Co., Ltd
SeAH Steel Corporation
Socialist Republic of Vietnam: Oil Country Tubular Goods, A-552-817 | 9/1/22-8/31/23
Pusan Pipe America, Inc.
SeAH Steel VINA Corporation
Spain: Methionine, A-469-822 | 9/1/22-8/31/23
Adisseo Espana S.A.
Taiwan: Forged Steel Fittings, A-583-863 | 9/1/22-8/31/23
Both-Well Steel Fittings, Co., Ltd.
Taiwan: Narrow Woven Ribbons With Woven Selvedge, A-583-844 | 9/1/22-8/31/23
A-MADEUS TEXTILE LTD.
A-MEN Ribbons Co., Ltd.
Antonio Proietti Int. Inc.
Apex Trimmings
Banduoo Ltd.
Bon-Mar Textiles
Chang Store Co. Ltd
Cheng Hsing Ribbon Factory
Cheng Mei Label Mfg. Corp.
Christmas Castle International Ltd.
Dear Year Brothers Mfg. Co., Ltd
Dearcobber International Co Ltd
Ethel Enterprise Co., Ltd.; Glory Young Enterprise Co., Ltd.; King Young Enterprises Co., Ltd.
Everwin Textile Corp.
Fist Labeling Corp.
Friend Chiu Co., Ltd.
Fujian Rongshu Industry Co., Ltd.
Golden State Industrial Co. Ltd.
Great Texture Int'l Co., Ltd.
Guangzhou Complacent Weaving Co., Ltd.
Gyrostate Corp.
Hao Shyang Ind. Co. Ltd.
Hen Hao Trading Co. Ltd; Taiwan Tulip Ribbons and Braids Co. Ltd.
Hsien Chan Enterprise Co., Ltd.; Novelty Handicrafts Co., Ltd.; Shienq Huong Enterprise Co., Ltd.
Hubscher Ribbon Corp., Ltd.; Hubschercorp
Imprimerie Mikan Inc.
J.S. (Just Splendid) Co., Ltd.
JCben Enterprises Co. Ltd.
Junmay Label Mfg Corp.
L'Emballage Tout
Lace Fashions Industrial Co. Ltd.
Linset Enterprises Co., Ltd.
Lung Che Ribbons Enterprises Co. Ltd.
Maple Ribbon Co., Ltd.
Maxtend Industry Corporation
May Favor Enterprise Co., Ltd
Ming Wei Co., Ltd.
Multicolor
N.K. Galleria Inc.
Nien Chow Industrial Co.
Pansy Weaving Co/Ltd
Papillon Ribbon & Bow (Canada)
Papillon Ribbon & Bow (H.K.) Ltd.
Papillon Ribbon & Bow (Shanghai) Ltd.
Pearl Ribbons and Trims, Inc.
Ren Her Industry Co. Ltd.
Ribbon City Company
Roung Shu Industry Corporation
Rubans G A R Inc. (Les)
Trio Co., Ltd
Trydent Co. Ltd.
Tse Tien Shin Enterprise Co Ltd
Tsong Jiaw Enterprise Co., Ltd.
Wing Hung (Tw) Co Ltd
Xiamen Especial Industrial Co., Ltd.
Xiamen Yi-He Textile Co., Ltd.
Yanzhou Bespak Gifts & Crafts Co.
Yih Jenq Textile Co. Ltd.
Yu Shin Development Co. Ltd.
Taiwan: Stainless Steel Wire Rod, A-583-828 | 9/1/22-8/31/23
Kuang Tai Metal Industrial Co., Ltd.
Walsin Lihwa Corporation
The People's Republic of China: Certain Magnesia Carbon Bricks, A-570-954 | 9/1/22-8/31/23
Autong Industry Co., Ltd.
Dandong Xinxing Carbon Co., Ltd.
Fedmet Resources Corporation
Fengchi Imp. and Exp. Co., Ltd.
Fengchi Imp. and Exp. Co., Ltd. of Haicheng City
Fengchi Mining Co., Ltd. of Haicheng City
Fengchi Refractories Co., of Haicheng City
FRC Global Inc.
Haicheng Donghe Taidi Refractory Co., Ltd.
Henan Xintuo Refractory Co., Ltd.
Liaoning Fucheng Refractories
Liaoning Zhongmei High Temperature Material Co., Ltd.
Liaoning Zhongmei Holding Co., Ltd.
Luoyang Dayang High-Performance Material Co., Ltd.
PRCO America Inc.
Puyang Refractories Co., Ltd.
Puyang Refractories Group Co., Ltd.
Qingdao Wonjin Special Refractory Material Co., Ltd.
RHI Refractories Liaoning Co., Ltd.
Shandong Minye Refractory Fibre Co., Ltd.
Shanxi Xinrong International Trade Co., Ltd.
Shenglong Refractories Co., Ltd.
SL Refractories LLC
Tangshan Strong Refractories Co., Ltd.
The Economic Trading Group Of Haicheng Houying Corp. Ltd.
Thermstrong Corporation
Tianjin New Century Refractories Co., Ltd.
Wonjin Refractory Co., Ltd.
Xinyi New Century Refractories Co., Ltd.
Yingkou Baolong Industrial Co., Ltd.
Yingkou Guangyang Refractories Co., Ltd.
Yingkou Heping Samwha Minerals, Co., Ltd.
Yingkou Heping Sanhua Materials Co., Ltd.
Yingkou Hongyu Wonjin Refractory Material Co., Ltd.
Yingkou Jiamei Refractories Co., Ltd.
Yingkou Mei'ao Mining Product Co., Ltd.
Zhengzhou Rongsheng Refractory Co., Ltd.
Zibo Fubang Wonjin Refractory Technology Co., Ltd.
Zibo Hengsen Refractory Co., Ltd.
Zibo Hitech Material Co., Ltd.
Zibo Jiuqiang Refractory Co., Ltd.
Zibo Soaring Refractory & Insulation Materials Co., Ltd.
The People's Republic of China: Kitchen Appliance Shelving and Racks, A-570-941 | 9/1/22-8/31/23
Asber Enterprises Co., Ltd. (China)
Guangdong Wireking Housewares & Hardware Co., Ltd. (a/k/a Foshan Shunde Wireking Housewares & Hardware Co., Ltd.)
Hangzhou Dunli Import & Export Co., Ltd.
Hangzhou Dunli Industry Co., Ltd.
Jiangsu Weixi Group Co.
Leader Metal Industry Co., Ltd. (a/k/a Marmon Retail Services Asia)
Marmon Retail Services Asia Ltd
New King Shan (Zhu Hai) Co., Ltd
Suzhou Huidou Imp. & Exp. Co., Ltd
The People's Republic of China: Narrow Woven Ribbons With Woven Selvedge, A-570-952 | 9/1/22-8/31/23
Amadeus Textile Ltd.
Amsun Industrial Co., Ltd.
Apex Trimmings (d/b/a Papillon Ribbon & Bow (Canada))
Bestpak Gifts and Crafts Co., Ltd.
Billion Trend International Ltd.
Changle Huanyu Ribbon Weaving Co., Ltd
Changle Ruixiang Webbing Co., Ltd.
Cheng Hsing Ribbon Factory
Cheng Xeng Label Mfg. Co.
Complacent Industrial Co. Ltd. (HK)
Creative Design Ltd.
Dongguan Qaotou Sheng Feng Decoration Factory
Dragon Max Weaving & Accessories Company
East Sun Gift & Crafts Factory
Fasheen Accessories Co. Ltd.
Fly Dragon (Guang zhou) Imports & Exports trading co., Ltd
Fuhua Industrial Co., Ltd
Fujian Shi Lian Da Garment Accessories Co., Ltd.
Fujian Xin Sheng Da Weaving Ribbons Co., Ltd
Fujian Xinshengda Weaving Ribbons Co., Ltd
Goodyear Webbing Products Co., Ltd
Guangzhou Complacent Weaving Co Ltd
Guangzhou Leiyu Trade Co., Ltd
Guangzhou Liman Ribbon Factory
Guangzhou String Textile Accessories Co., Ltd.
Hen Hao Trading Co. Ltd. a.k.a. Taiwan Tulip Ribbons and Braids Co. Ltd.
Hsien Chan Enterprise Co., Ltd.
Huian Huida Webbing Co., Ltd.
Huizhou Weiyi Gifts Co., Ltd.
Huzhou Linghu Tianyi Tape Co., Ltd.
Huzhou Lingxian Silk Ribbon Co., Ltd.
Huzhou Unifull Label Fabric Co., Ltd.
Intercontinental Skyline
Jian Chang Ind. Co., Ltd.
Jiangyin Lilai Tape Co., Ltd.
Jufeng Ribbon Co.Ltd.
Kaiping Qifan Weaving Co., Ltd.
King Young Enterprises Co., Ltd.
King's Pipe Cleaner's Ind. Inc aka King's Crafts (China) Ltd
(aka King's Pipe Cleaner's, Ind. Inc)
Kinstarlace & Embroidery Co.
Kunshan Dah Mei Weaving Co. Ltd.
Lace Fashions Industrial Co. Ltd.
Multicolor
Nan Mei Decorative Ribbons Co., Ltd.
Ningbo Bofa Co., Ltd
Ningbo Hongshine Decorative Packing Industrial Co. Ltd. aka Ningbo Hongrun Craft and Ornament Factory
Ningbo Jinfeng Thread & Ribbon Co. Ltd.
Ningbo MH Industry Co., Ltd.
Ningbo R&D Ind Company
Ningbo Sunshine Import & Export Co. Ltd.
Ningbo Wanhe Industry Co., Ltd.
Ningbo XWZ Ribbon Manufactory
Ningbo Yinzhou Hengcheng Ribbon Factory
Novelty Handicrafts Co., Ltd.
Papillon Ribbon & Bow (H.K.) Ltd.
Papillon Ribbon & Bow (Shanghai) Ltd.
Precious Planet Ribbons & Bows Co. Ltd.
PROTEX Co., Ltd.
Qingdao Cuifengyuan Industrial and Trading Co., Ltd.
Qingdao Haili Lace & Ribbon Co., Ltd.
Qingdao Hileaders Co., Ltd.
RizeStar Weaving Ribbon Factory
Roung Shu Industry Corporation a.k.a. Cheng Hsing Ribbon Factory
Shanghai Dae Textile International Co., Ltd.
Shanghai E & T Jawa Import & Export Co. Ltd.
ShaoXing Haiyue Gifts Co. Ltd.
Sheinq Huong Enterprise Co., Ltd.
Shenq Sin Company Ltd.
Shenzhen Bostrip Crafts Co. Ltd.
Shenzhen Candour Belt & Tape Co., Ltd.
Shenzhen Jinpin Gifts & Crafts Factory
Shenzhen Lucky Star Craft Co., Ltd.
Shenzhen Weiyi Crafts Technology Co., Ltd.
Shenzhen Yibao Gifts Co. Ltd.
Shishi Lifa Computer Woven Label Co., Ltd.
Shuanglin Label
Sinopak Gifts & Crafts Co., Ltd
Stribbons (Guang Zhou) Ltd.
Stribbons (Guangzhou) Ltd Aka MNC Stribbons
String Textile Accessories Co., Ltd.
String Textile Accessories Co., Ltd.
Success Charter Enterprise Limited
Sungai Garment Accessories Co., Ltd.
Tianjin Sun Ribbon Company Ltd aka Tian Jin Sun Ribbon Company Ltd.
Weifang Aofulon Weaving Company, Ltd.
Weifang Chenrui Textile Co., Ltd.
Weifang Dongfang Ribbon Weaving Co., Ltd.
Weifang Jiacheng Webbing Co., Ltd.
Weifang Yuyuan Textile Co., Ltd.
Wenzhou Chuntian Ribbon Manufacturing Co., Ltd.
Wenzhou GED Industrial Co., Ltd.
Wiefang Shicheng Ribbon Factory
Wing Tat Haberdashery Co., Ltd aka Wing Hiang Belt Weaving Ltd.
Xiamen Bailuu Thread Manufacture Co., Ltd.
Xiamen Daiyuan Ribbons & Printing Co., Ltd.
Xiamen Egret Thread Manufacturing Co., Ltd.
Xiamen Especial Industrial Co., Ltd.
Xiamen LA Ribbons Crafts Co., Ltd.
Xiamen Lude Ribbons And Bows Co., Ltd.
Xiamen Sanling Ribbon Packing Co., Ltd.
Xiamen ShangPeng Weaving Ribbon Factory
Xiamen Sling Ribbon & Bows Co., Ltd.
Yangzhou Bestpak Gifts and Crafts Co., Ltd.
Yi Jia Trimmings Accessories & Supplies/Dong Guan WSJ Weaving Factory Limited
Yiwu Baijin Belt Co., Ltd
Yiwu City Pingzhan Weaving Ribbon Factory
Yiwu Ruitai Webbing Factory
Yiwu Yunli Tape Co., Ltd.
Yu Shin Development Co. Ltd.
Yuanhong Garment Accessory Co., Ltd.
Yuyao Warp & Weft Tape Weaving Co., Ltd.
Zenith Garment Accessories Co., Ltd.
Zhejiang Chengxin Weaving Co., Ltd
Zhejiang Sanding Weaving Co., Ltd.
Zibo All Webbing Co., Ltd.
The People's Republic of China: Polyethylene Retail Carrier Bags,⁵ A-570-886 | 8/1/22-7/31/23
Dongguan Nozawa Plastics Products Co., Ltd. and United Power Packaging, Ltd. (collectively Nozawa)
Crown Polyethylene Products (International) Ltd.
The People's Republic of China: Steel Racks and Parts Thereof, A-570-088 | 9/1/22-8/31/23
Hebei Minmetals Co., Ltd.
Jiangsu JISE Intelligent Storage Equipment Co., Ltd.
Jiangsu Nova Intelligent Logistics Equipment Co., Ltd.
Jiangsu Starshine Industry Equipment Co., Ltd.
Nanjing Dongsheng Shelf Manufacturing Co., Ltd.
Nanjing Ironstone Storage Equipment Co., Ltd.
Nanjing Kingmore Logistics Equipment Manufacturing Co., Ltd.
Ningbo Xinguang Rack Co., Ltd.
Xiamen Luckyroc Industry Co., Ltd.
CVD Proceedings
India: Lined Paper Products, C-533-844 | 1/1/22-12/31/22
Navneet Education Ltd.
India: Oil Country Tubular Goods, C-533-858 | 1/1/22-12/31/22
Surya Roshni Limited
Republic of Korea: Cold-Rolled Steel Flat Products, C-580-882 | 1/1/22-12/31/22
AJU Steel Co., Ltd.
Amerisource Korea
Amerisource International
BC Trade
Busung Steel Co., Ltd.
Cenit Co., Ltd.
Daewoo Logistics Corp.
Dai Yang Metal Co., Ltd.
DK GNS Co., Ltd.
Dongbu Incheon Steel Co., Ltd.
Dongbu Steel Co., Ltd.
Dong Jin Machinery
Dongkuk Industries Co., Ltd.
Dongkuk Steel Mill Co., Ltd.
Eunsan Shipping and Air Cargo Co., Ltd.
Euro Line Global Co., Ltd
Golden State Corp.
GS Global Corp.
Hanawell Co., Ltd.
Hankum Co., Ltd.
Hyosung TNC Corp.
Hyuk San Profile Co., Ltd.
Hyundai Group
Hyundai Steel Company
Iljin NTS Co., Ltd.
Iljin Steel Corp.
Jeen Pung Industrial Co., Ltd.
JS Steel Co., Ltd.
JT Solution
KG Dongbu Steel Co., Ltd.
Kolon Global Corporation
Nauri Logistics Co., Ltd.
Okaya (Korea) Co., Ltd.
PL Special Steel Co., Ltd.
POSCO; POSCO International Corporation
POSCO C&C Co., Ltd.
POSCO Daewoo Corp.
Samsung C&T Corp.
Samsung STS Co., Ltd.
SeAH Steel Corp.
SM Automotive Ltd.
SK Networks Co., Ltd.
Taihan Electric Wire Co., Ltd.
TGS Pipe Co., Ltd.
TI Automotive Ltd.
Topco Global Co., Ltd.
Xeno Energy
Young Steel Co., Ltd.
The People's Republic of China: Narrow Woven Ribbons With Woven Selvedge, C-570-953 | 1/1/22-12/31/22
Amadeus Textile Ltd.
Amsun Industrial Co., Ltd.
Apex Ribbon
Apex Trimmings (d/b/a Papillon Ribbon & Bow (Canada))
Beauty Horn Investment Limited
Bestpak Gifts and Crafts Co., Ltd.
Billion Trend International Ltd.
Changle Huanyu Ribbon Weaving Co., Ltd.
Changle Ruixiang Webbing Co., Ltd.
Changtai Rongshu Textile Co., Ltd.
Cheng Xeng Label Mfg. Co.
Complacent Industrial Co., Ltd. (HK)
Creative Design Ltd.
Dongguan Qaotou Sheng Feng Decoration Factory
Dongguan Yi Sheng Decoration Co., Ltd.
Dragon Max Weaving & Accessories Company
East Sun Gift & Crafts Factory
Fasheen Accessories Co. Ltd.
Fly Dragon (Guang zhou) Imports & Exports trading Co., Ltd.
Fuhua Industrial Co., Ltd.
Fujian Rongshu Industry Co., Ltd.
Fujian Shi Lian Da Garment Accessories Co., Ltd.
Fujian Xin Sheng Da Weaving Ribbons Co., Ltd.
Fujian Xinshengda Weaving Ribbons Co., Ltd.
Fung Ming Ribbon Ind., Ltd.
Goodyear Webbing Products Co., Ltd.
Gordon Ribbons & Trimmings Co., Ltd.
Guangzhou Complacent Weaving Co., Ltd.
Guangzhou Leiyu Trade Co., Ltd.
Guangzhou Liman Ribbon Factory
Guangzhou Mafolen Ribbons & Bows Ltd.
Guangzhou String Textile Accessories Co., Ltd.
Hen Hao Trading Co. Ltd.; Taiwan Tulip Ribbons and Braids Co., Ltd.
Hubscher Ribbon Corp., Ltd. (d/b/a Hubschercorp)
Huian Huida Webbing Co., Ltd.
Huizhou Weiyi Gifts Co., Ltd.
Huzhou Linghu Tianyi Tape Co., Ltd.
Huzhou Lingxian Silk Ribbon Co., Ltd.
Huzhou Unifull Label Fabric Co., Ltd.
Intercontinental Skyline
Jian Chang Ind. Co., Ltd.
Jiangyin Lilai Tape Co., Ltd.
Jufeng Ribbon Co., Ltd.
Kaiping Qifan Weaving Co., Ltd.
King Young Enterprises Co., Ltd.
King's Pipe Cleaner's Ind. Inc; King's Crafts (China) Ltd; King's Pipe Cleaner's, Ind. Inc.
Kinstarlace & Embroidery Co.
Kunshan Dah Mei Weaving Co., Ltd.
Lace Fashions Industrial Co., Ltd.
Linghu Jiacheng Silk Ribbon Co., Ltd.
Multicolor
Nan Mei Decorative Ribbons Co., Ltd.
Ningbo Bofa Co., Ltd.
Ningbo Flowering Crafts Co., Ltd.
Ningbo Hongshine Decorative Packing Industrial Co., Ltd.; Ningbo Hongrun Craft and Ornament Factory
Ningbo Jinfeng Thread & Ribbon Co., Ltd.
Ningbo MH Industry Co., Ltd.
Ningbo R&D Ind. Company
Ningbo Sunshine Import & Export Co., Ltd.
Ningbo V.K. Industry and Trading Co., Ltd.
Ningbo Wanhe Industry Co., Ltd.
Ningbo XWZ Ribbon Manufactory
Ningbo Yinzhou Jinfeng Knitting Factory
Ningbo Yinzhou Hengcheng Ribbon Factory
Pacific Imports
Papillon Ribbon & Bow (H.K.) Ltd.
Papillon Ribbon & Bow (Shanghai) Ltd.
Precious Planet Ribbons & Bows Co., Ltd.
PROTEX Co., Ltd.
Qingdao Cuifengyuan Industrial and Trading Co., Ltd.
Qingdao Haili Lace & Ribbon Co., Ltd.
Qingdao Hileaders Co., Ltd.
RizeStar Weaving Ribbon Factory
Roung Shu Industry Corporation; Cheng Hsing Ribbon Factory
Shandong Hileaders Industrial Co., Ltd.
Shanghai Dae Textile International Co., Ltd.
Shanghai E & T Jawa Import & Export Co., Ltd.
ShaoXing Haiyue Gifts Co., Ltd.
Sheinq Huong Enterprise Co., Ltd.; Hsien Chan Enterprise Co., Ltd.; Novelty Handicrafts Co., Ltd.
Shenq Sin Company Ltd.
Shenzhen Bostrip Crafts Co., Ltd.
Shenzhen Candour Belt & Tape Co., Ltd.
Shenzhen Jinpin Gifts & Crafts Factory
Shenzhen Lucky Star Craft Co., Ltd.
Shenzhen Weiyi Crafts Technology Co., Ltd.
Shenzhen Yibao Gifts Co., Ltd.
Shishi Lifa Computer Woven Label Co., Ltd.
Shuanglin Label
Sinopak Gifts & Crafts Co., Ltd.
Stribbons (Guangzhou) Ltd; MNC Stribbons
Stribbons (Nanyang) MNC Ltd.
String Textile Accessories Co., Ltd.
Success Charter Enterprise Limited
Sungai Garment Accessories Co., Ltd.
Sun Rich (Asia) Limited
Supreme Laces Inc.
Tianjin Sun Ribbon Company Ltd; Tian Jin Sun Ribbon Company Ltd.
Weifang Aofulon Weaving Company Ltd.
Weifang Chenrui Textile Co., Ltd.
Weifang Dongfang Ribbon Weaving Co., Ltd.
Weifang Jiacheng Webbing Co., Ltd.
Weifang Jinqi Textile Co., Ltd.
Weifang Yuyuan Textile Co., Ltd.
Wenzhou Chuntian Ribbon Manufacturing Co., Ltd.
Wenzhou GED Industrial Co., Ltd.
Wiefang Shicheng Ribbon Factory
Wing Tat Haberdashery Co., Ltd; Wing Hiang Belt Weaving Ltd.
Xiamen Bailuu Thread Manufacture Co., Ltd.
Xiamen Bethel Ribbon & Trims Co., Ltd.
Xiamen Boca Ribbons & Crafts Co., Ltd.
Xiamen Daiyuan Ribbons & Printing Co., Ltd.
Xiamen Egret Thread Manufacturing Co., Ltd.
Xiamen Especial Industrial Co., Ltd.
Xiamen LA Ribbons Crafts Co., Ltd.
Xiamen Lianglian Ribbons & Bows Co., Ltd.
Xiamen Linji Ribbons & Bows Co., Ltd.
Xiamen Lude Ribbons and Bows Co., Ltd.
Xiamen Midi Ribbons & Crafts Co., Ltd.
Xiamen Rainbow Gifts & Packs Co., Ltd.
Xiamen Sanling Ribbon Packing Co., Ltd.
Xiamen ShangPeng Weaving Ribbon Factory
Xiamen Sling Ribbon & Bows Co., Ltd.
Xiamen Yi He Textile Co., Ltd. (d/b/a Roungshu Ribbon)
Yama Ribbons and Bows Co., Ltd.
Yangzhou Bestpak Gifts and Crafts Co., Ltd.
Yi Jia Trimmings Accessories & Supplies; Dong Guan WSJ Weaving Factory Limited
Yiwu Baijin Belt Co., Ltd.
Yiwu City Pingzhan Weaving Ribbon Factory
Yiwu Dong Ding Ribbons Co., Ltd.
Yiwu Ruitai Webbing Factory
Yiwu Yunli Tape Co., Ltd.
Yu Shin Development Co., Ltd.
Yuanhong Garment Accessory Co., Ltd.
Yuyao Warp & Weft Tape Weaving Co., Ltd.
Zenith Garment Accessories Co., Ltd.
Zhejiang Chengxin Weaving Co., Ltd
Zhejiang Sanding Weaving Co., Ltd.
Zibo All Webbing Co., Ltd.
The People's Republic of China: Steel Racks, C-570-089 | 1/1/22-12/31/22
Jiangsu JISE Intelligent Storage Equipment Co., Ltd.
Jiangsu Nova Intelligent Logistics Equipment Co., Ltd
Jiangsu Starshine Industry Equipment Co., Ltd.
Nanjing Dongsheng Shelf Manufacturing Co., Ltd.
Nanjing Ironstone Storage Equipment Co., Ltd.
Ningbo Xinguang Rack Co., Ltd.
Xiamen Luckyroc Industry Co., Ltd.
Turkey: Oil Country Tubular Goods, C-489-817 | 1/1/22-12/31/22
Bakir Grup Makine Imalat Bakim Montaj Demontaj Sanayi ve Ticaret Ltd. Sti.
Borusan Lojistik Dag. Deg. Tas Ve
Borusan Mannesmann Boru Sanayi ve Ticaret A.S
Borusan Istikbal Ticaret
Borusan Mannesmann Boru Yatirim Holding
Cayirova Boru Sanayi ve Ticaret A.S.
Hatboru San ve Tic A.S.
Hydra Insaat Sanayi ve Ticaret Anonim Sirketi
Kalibre Boru Sanayi ve Ticaret
KALTEK Machinery & Trading Ltd. Co.
Milfit Boru ve Baglanti Elemenlari Sanayi ve Tic. A.S.
NETBORU San. Ve Dis. Tic. Koll. Sti.
Organize Sanayi Bolgesi
Umran Celik Boru Sanayi A.S.
Yilmaz Pipo
Yucel Boru Ithalat-Ihracat ve Pazarlama A.S.
Suspension Agreements
Mexico: Fresh Tomatoes, A-201-820 | 9/1/22-8/31/23

Duty Absorption Reviews

⁵ In the initiation notice that was published on October 18, 2023 (88 FR 71829) Commerce listed the incorrect company names of companies under review. The correct company names of the two companies for which a review was requested are listed in this notice.

During any administrative review covering all or part of a period falling between the first and second or third and fourth anniversary of the publication of an AD order under 19 CFR 351.211 or a determination under 19 CFR 351.218(f)(4) to continue an order or suspended investigation (after sunset review), Commerce, if requested by a domestic interested party within 30 days of the date of publication of the notice of initiation of the review, will determine whether AD duties have been absorbed by an exporter or producer subject to the review if the subject merchandise is sold in the United States through an importer that is affiliated with such exporter or producer. The request must include the name(s) of the exporter or producer for which the inquiry is requested.

Gap Period Liquidation

For the first administrative review of any order, there will be no assessment of antidumping or countervailing duties on entries of subject merchandise entered, or withdrawn from warehouse, for consumption during the relevant “gap” period of the order (i.e., the period following the expiry of provisional measures and before definitive measures were put into place), if such a gap period is applicable to the POR.

Administrative Protective Orders and Letters of Appearance

Interested parties must submit applications for disclosure under administrative protective orders in accordance with the procedures outlined in Commerce's regulations at 19 CFR 351.305. Those procedures apply to administrative reviews included in this notice of initiation. Parties wishing to participate in any of these administrative reviews should ensure that they meet the requirements of these procedures (e.g., the filing of separate letters of appearance as discussed at 19 CFR 351.103(d)).

Factual Information Requirements

Commerce's regulations identify five categories of factual information in 19 CFR 351.102(b)(21), which are summarized as follows: (i) evidence submitted in response to questionnaires; (ii) evidence submitted in support of allegations; (iii) publicly available information to value factors under 19 CFR 351.408(c) or to measure the adequacy of remuneration under 19 CFR 351.511(a)(2); (iv) evidence placed on the record by Commerce; and (v) evidence other than factual information described in (i)-(iv). These regulations require any party, when submitting factual information, to specify under which subsection of 19 CFR 351.102(b)(21) the information is being submitted and, if the information is submitted to rebut, clarify, or correct factual information already on the record, to provide an explanation identifying the information already on the record that the factual information seeks to rebut, clarify, or correct. The regulations, at 19 CFR 351.301, also provide specific time limits for such factual submissions based on the type of factual information being submitted. Please review the Final Rule,⁶ available at www.govinfo.gov/content/pkg/FR-2013-07-17/pdf/2013-17045.pdf, prior to submitting factual information in this segment. Note that Commerce has amended certain of its requirements pertaining to the service of documents in 19 CFR 351.303(f).⁷

⁶ See Certification of Factual Information To Import Administration During Antidumping and Countervailing Duty Proceedings, 78 FR 42678 (July 17, 2013) (Final Rule); see also the frequently asked questions regarding the Final Rule, available at https://enforcement.trade.gov/tlei/notices/factual_info_final_rule_FAQ_07172013.pdf.

⁷ See Administrative Protective Order, Service, and Other Procedures in Antidumping and Countervailing Duty Proceedings; Final Rule, 88 FR 67069 (September 29, 2023).

Any party submitting factual information in an AD or CVD proceeding must certify to the accuracy and completeness of that information using the formats provided at the end of the Final Rule.⁸ Commerce intends to reject factual submissions in any proceeding segments if the submitting party does not comply with applicable certification requirements.

⁸ See section 782(b) of the Act; see also Final Rule; and the frequently asked questions regarding the Final Rule, available at https://enforcement.trade.gov/tlei/notices/factual_info_final_rule_FAQ_07172013.pdf.

Extension of Time Limits Regulation

Parties may request an extension of time limits before a time limit established under Part 351 expires, or as otherwise specified by Commerce.⁹ In general, an extension request will be considered untimely if it is filed after the time limit established under Part 351 expires. For submissions which are due from multiple parties simultaneously, an extension request will be considered untimely if it is filed after 10:00 a.m. on the due date. Examples include, but are not limited to: (1) case and rebuttal briefs, filed pursuant to 19 CFR 351.309; (2) factual information to value factors under 19 CFR 351.408(c), or to measure the adequacy of remuneration under 19 CFR 351.511(a)(2), filed pursuant to 19 CFR 351.301(c)(3) and rebuttal, clarification and correction filed pursuant to 19 CFR 351.301(c)(3)(iv); (3) comments concerning the selection of a surrogate country and surrogate values and rebuttal; (4) comments concerning CBP data; and (5) Q&V questionnaires. Under certain circumstances, Commerce may elect to specify a different time limit by which extension requests will be considered untimely for submissions which are due from multiple parties simultaneously. In such a case, Commerce will inform parties in the letter or memorandum setting forth the deadline (including a specified time) by which extension requests must be filed to be considered timely. This policy also requires that an extension request must be made in a separate, stand-alone submission, and clarifies the circumstances under which Commerce will grant untimely-filed requests for the extension of time limits. Please review the Final Rule, available at https://www.gpo.gov/fdsys/pkg/FR-2013-09-20/html/2013-22853.htm, prior to submitting factual information in these segments.

⁹ See 19 CFR 351.302.

Notification to Interested Parties

These initiations and this notice are in accordance with section 751(a) of the Act (19 U.S.C. 1675(a)) and 19 CFR 351.221(c)(1)(i).

Dated: November 7, 2023.
James Maeder,
Deputy Assistant Secretary for Antidumping and Countervailing Duty Operations.

[FR Doc. 2023-25138 Filed 11-14-23; 8:45 am]

BILLING CODE 3510-DS-P